DEPARTMENT OF THE INTERIOR

National Park Service

[NPS-WASO-NAGPRA-NPS0038620; PPWOCRADN0-PCU00RP14.R50000]

Notice of Inventory Completion: Hartwick College, Oneonta, NY

AGENCY: National Park Service, Interior.

ACTION: Notice.

SUMMARY: In accordance with the Native American Graves Protection and Repatriation Act (NAGPRA), Hartwick College has completed an inventory of human remains and associated funerary objects and has determined that there is a cultural affiliation between the human remains and associated funerary objects and Indian Tribes or Native Hawaiian organizations in this notice. The remains were recovered from Oneonta, NY, and Hyndesville, NY, respectively.

DATES: Repatriation of the human remains and associated funerary objects in this notice may occur on or after October 3, 2024.

ADDRESSES: Dr. Quentin Lewis, Yager Museum, Hartwick College, 1 Hartwick Drive, Oneonta, NY 13820, telephone (607) 431-4481, email lewisq@hartwick.edu.

SUPPLEMENTARY INFORMATION: This notice is published as part of the National Park Service's administrative responsibilities under NAGPRA. The determinations in this notice are the sole responsibility of Hartwick College, and additional information on the determinations in this notice, including the results of consultation, can be found in the inventory or related records. The National Park Service is not responsible for the determinations in this notice.

Abstract of Information Available

Based on the information available, human remains representing, at least, two individuals have been reasonably identified. In 1923, Adrian G. Blanchard of Oneonta uncovered a burial in Oneonta, NY, in an area known as the Oneonta Plains, between the Susquehanna River and the current railroad tracks along what is today Highway 205. This burial consisted of fragmentary human remains of one or more individuals and 84 associated funerary objects. The 84 associated funerary objects consist of 29 stone tools, three gorgets, one antler flaker, 13 sherds of pottery, one lot of fragments of mica schist, one tubular shell bead, one hammered copper pendant, five fish vertebrae beads, and 30 rolled copper beads. These materials were given or sold to Willard Yager before 1929, and have been in Hartwick College's possession since that time.

In 1971, the remains of one individual were uncovered by Hartwick College Professor Bruce Raemsch near Hyndsville, NY as part of an archaeological field school at the Pleasant Brooke locus of the Timlin site. One associated funerary object was also uncovered. Excavated from disturbed fill near a state highway, Raemsch was told by local informants that highway construction crews had uncovered a Native burial some decades prior and removed remains and associated artifacts, and that the remains found by Raemsch were likely from that burial. These remains were sent to the radiocarbon lab at University of California, Riverside in 1971 for testing, though it is not clear from records whether testing was actually completed. This individual has remained at Riverside since that time. The associated funerary object consists of a soil sample taken from the disturbed fill adjacent to the remains, which was likewise sent to Riverside, California.

Cultural Affiliation

Based on the information available and the results of consultation, cultural affiliation is reasonably identified by the geographical location or acquisition history of the human remains and associated funerary objects described in this notice.

Determinations

Hartwick College has determined that:

• The human remains described in this notice represent the physical remains of three individuals of Native American ancestry.

• The 85 objects described in this notice are reasonably believed to have been placed intentionally with or near individual human remains at the time of death or later as part of the death rite or ceremony.

• There is a reasonable connection between the human remains and associated funerary objects described in this notice and the Saint Regis Mohawk Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 3, 2024. If competing requests for repatriation are received, Hartwick College must determine the most appropriate requestor prior to repatriation. Requests for joint repatriation of the human remains and associated funerary objects are considered a single request and not competing requests. Hartwick College is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19678 Filed 8-30-24; 8:45 am]

BILLING CODE 4312-52-P